DEPARTMENT OF COMMERCE

Foreign-Trade Zones Board

[B-78-2014]

Foreign-Trade Subzone 83D—Decatur, Alabama; Authorization of Production Activity; General Electric Company (Household Refrigerators)

On October 22, 2014, the Huntsville-Madison County Airport Authority, grantee of FTZ 83, submitted a notification of proposed production activity to the Foreign-Trade Zones (FTZ) Board on behalf of General Electric Company, within Subzone 83D, in Decatur, Alabama.

The notification was processed in accordance with the regulations of the FTZ Board (15 CFR part 400), including notice in the Federal Register inviting public comment (79 FR 65616, November 5, 2014). The FTZ Board has determined that no further review of the activity is warranted at this time. The production activity described in the notification is authorized, subject to the FTZ Act and the FTZ Board's regulations, including Section 400.14.

Dated: February 25, 2015.
Andrew McGilvray,
Executive Secretary.

[FR Doc. 2015-04344 Filed 2-27-15; 8:45 am]

BILLING CODE 3510-DS-P